DEPARTMENT OF ENERGY

Federal Energy Regulatory Commission

[Project No. 2662-012-CT; Project No. 12968-001-CT]

FirstLight Hydro Generating Company, City of Norwich Dept. of Public Utilities; Notice of Meeting

a. Date and Time of Meeting: Tuesday, May 17, 2011 from 10 a.m. to 12 p.m. EDT.

b. Place: Federal Energy Regulatory Commission, 888 First St., NE., Washington, DC 20426.

c. FERC Contact: Janet Hutzel, (202) 502-8675 or janet.hutzel@ferc.gov.

d. Purpose of meeting: Commission staff will meet with FirstLight Hydro Generating Company and the City of Norwich Dept. of Public Utilities to discuss the requirements of a supporting design report needed for the Scotland Hydroelectric Project (P-2662-012 and P-12968-001, respectively).

e. All local, State, and Federal agencies, tribes, and interested parties are hereby invited to participate, and teleconference will be available to those who cannot attend in person. Please contact Janet Hutzel at 202-502-8675 or via email at janet.hutzel@ferc.gov by the close of business on Thursday, May 12, 2011 to attend via teleconference.

Dated: May 2, 2011.
Kimberly D. Bose,
Secretary.

[FR Doc. 2011-11084 Filed 5-5-11; 8:45 am]

BILLING CODE 6717-01-P